DEPARTMENT OF THE INTERIOR

Bureau of Land Management

[WO-320-1330-PB-24-1A]

Extension of Currently Approved Information Collection; OMB Approval Number 1004-121

Information Collection Submitted to the Office of Management and Budget for Review Under the Paperwork Reduction Act.

The Bureau of Land Management (BLM) has submitted the following renewal for the collection of information to the Office of Management and Budget for approval under the Paperwork Reduction Act (44 U.S.C. Chapter 35). We request that interested parties provide us comments on this information collection renewal.

You may get copies of the proposed collection of information and related forms and explanatory material from the Bureau's Clearance Officer at the phone number listed below. Please make any comments and suggestions about our information collection requirements directly to the Bureau Clearance Officer and to the Office of Management and Budget, Paperwork Reduction Project (1004-30, 1004-121 and 1004-142), Washington, DC 20503.

Nature of Comments

We specifically request your comments on the following:

1. Whether the collection of information is necessary for the proper functioning of BLM, including whether the information will have practical utility;

2. The accuracy of BLM's estimate of the burden, including the validity of the methodology and assumptions used.

3. The quality, utility and clarity of the information to be collected; and

4. How to minimize the burden of collecting the information those on who are to respond, including the use of appropriate automated electronic, mechanical or other forms of information technology.

Title: Leasing of Solid Minerals Other Than Coal and Oil Shale (43 CFR 3500).

OMB Approval Number: 1004-121.

Abstract: We require persons to supply us information that we use to establish their qualifications to hold permits and leases for solid minerals other than coal and oil shale. We also require information that we use to determine procedures for the leasing of solid minerals other than coal or oil shale and for developing those leases. BLM uses this information to ensure that operations on permits and leases are conducted in a manner that is consistent with the regulations and environmental requirements in accordance with the National Environmental Policy Act of 1969, as amended.

Form Numbers: 3504-1, 3504-3, 3504-4, 3510-1, 3520-7.

Frequency: On occasion.

Description of Respondents: Those seeking to lease and develop solid minerals other than coal and oil shale.

Estimated Completion Times

Breakdown of Information Collections and Total Hours
Type of application | Number of responses | Hours per responses | Total hours
Prospecting Permit | 25 | 1 | 25
Exploration Plan for Prospecting Permit | 20 | 80 | 1600
Prospecting Permit Extension | 5 | 1 | 5
Preference Right Lease | 2 | 100 | 200
Competitive Lease Bid | 5 | 40 | 200
Fringe Acreage Lease or Lease Modification | 5 | 40 | 200
Assignment or Sublease | 40 | 2 | 80
Lease Renewals or Adjustments | 15 | 1 | 15
Use Permit | 1 | 1 | 1
Exploration License | 1 | 3 | 3
Exploration Plan for Exploration License | 1 | 80 | 80
Development Contract | 1 | 1 | 1
Bond | 150 | 4 | 600
Mine Plan | 5 | 150 | 750
Total | 276 |  | 3760

BLM estimates that it will take an average of 14 hours to complete the applications, petitions, offers and statements required. The applicants will have access to records, plats and maps necessary for providing legal land descriptions. The type of information necessary is outlined in the regulations and is already maintained by the respondents for their own recordkeeping purposes and needs only to be compiled in a reasonable format. The estimate also includes the time required for assembling the information, as well as the time of clerical personnel if needed. BLM estimates that approximately 276 filings will be made each year for a total of 3,760 reporting hours.

Annual Responses: 276.

Annual Burden Hours: 3,760.

Annual Cost Burden Due to Filing Fees: $2,675 (estimated 107 filings at $25 each).

Bureau Clearance Office: Carole Smith, (202) 452-0367.

Dated: April 27, 2000.
Carole Smith,
Clearance Officer.

[FR Doc. 00-10966 Filed 5-2-00; 8:45 am]

BILLING CODE 4310-84-M